DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq.), the FAA invites public comment on four current public information collections, which will be submitted to OMB for renewal.

DATES: Comments must be submitted on or before November 23, 2001.

ADDRESSES: Comments may be mailed or delivered to FAA, at the following address: Ms. Judy Street, Room 612, Federal Aviation Administration, Standards and Information Division, APF-100, 800 Independence Avenue, SW, Washington, DC 20591.

FOR FURTHER INFORMATION CONTACT: Ms. Judy Street, at the above address or on (202) 267-9895.

SUPPLEMENTARY INFORMATION: The FAA solicits comments on any of the current collections of information in order to evaluate the necessity of the collection, the accuracy of the agency's estimate of burden, the quality, utility, and clarity of the information to be collected, and possible ways to minimize the burden of collection. Also note, that an agency may not conduct or sponsor, and a person is not required to respond to, a collection of information unless it displays a currently valid OMB control number.

Following are short synopses of the four information collection activities that will be submitted to OMB for requests for renewal:

1. 2120-005, General Operating and Flight rules—FAR 91. Part A of Subtitle VII of the revised Title 49 U.S.C. authorizes the issuance of regulations governing the use of navigable airspace. The reporting and recordkeeping requirements of 14 CFR part 91 prescribe rules governing the operation of aircraft (other than moored balloons, kites, rockets and unmanned free balloons) within the United States. The reporting and recordkeeping requirements prescribed by various sections of Part 91 are necessary for FAA to ensure compliance with these provisions. The respondents are individual airmen, state or local governments, and businesses. The current estimated annual burden is 230,000 hours.

2. 2120-0517, Airport Noise Compatibility Planning 14 CFR part 150. FAA approval makes airport operators' noise compatibility programs eligible for a 10 percent set-aside of discretionary grant funds under the FAA Airport Improvement Program. The respondents are an estimated 17 state and local governments (airport operators). The current estimated annual burden is 54, 9000 hours.

3. 2120-0638, Security Programs for Foreign Air Carriers, 14 CFR part 129. The security programs identify the procedures to be used by air carriers in carrying out their responsibilities under the law to protect persons and property on an aircraft operating in air transportation, intrastate air transportation, and flights to/from the United States against acts of criminal violence and aircraft piracy. The respondents are foreign air carriers. The current estimated annual burden is 5,200 hours.

4. 2120-0669, Flight Data Recorder Resolution Requirements. The information will be used by the FAA to track compliance with the underlying regulation, 14 CFR 121.344 et al, and to determine who will be affected by any subsequent FAA action to resolve the problems described by the manufacturer. The respondents are an estimated 50 aircraft operators, and the current estimated annual burden is 67 hours.

Issued in Washington, DC on September 18, 2001.
Steve Hopkins,
Manager, Standards and Information Division, APF-100.

[FR Doc. 01-23782 Filed 9-21-01; 8:45 am]

BILLING CODE 4910-13-M